DEPARTMENT OF ENERGY

Federal Energy Regulatory Commission

[Docket No. CP13-110-000]

Columbia Gas Transmission, LLC; Notice of Request under Blanket Authorization

Take notice that on Columbia Gas Transmission, LLC (Columbia), 5151 San Felipe, Suite 2500, Houston, Texas 77056, filed a prior notice request pursuant to sections 157.205 and 157.214 of the Commission's regulations under the Natural Gas Act (NGA) for authorization to increase the storage capacity at its Lanham, Terra Alta, Terra Alta South, and Coco C Storage Fields in West Virginia. Columbia states that, as a result of storage field tests, the overall capacity of these fields can be increased. Columbia does not propose to expand the boundaries, change the maximum pressure, or perform any construction to increase the capacity of these four storage fields, all as more fully set forth in the application, which is on file with the Commission and open to public inspection. The filing may also be viewed on the web at http://www.ferc.gov using the “eLibrary” link. Enter the docket number excluding the last three digits in the docket number field to access the document. For assistance, contact FERC at FERCOnlineSupport@ferc.gov or call toll-free, (866) 208-3676 or TTY, (202) 502-8659.

Any questions regarding the application should be directed to Fredric J. George, Senior Counsel, Columbia Gas Transmission, LLC, PO Box 1273, Charleston, West Virginia 25325-1273, by telephone at (304) 357-2359, or by facsimile at (304) 357-3206.

Any person may, within 60 days after the issuance of the instant notice by the Commission, file pursuant to Rule 214 of the Commission's Procedural Rules (18 CFR 385.214) a motion to intervene or notice of intervention. Any person filing to intervene or the Commission's staff may, pursuant to section 157.205 of the Commission's regulations under the NGA (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a) (1) (iii) and the instructions on the Commission's Web site (www.ferc.gov) under the “e-Filing” link.

Dated: March 29, 2013.
Kimberly D. Bose,
Secretary.

[FR Doc. 2013-07796 Filed 4-3-13; 8:45 am]

BILLING CODE 6717-01-P